DEPARTMENT OF HEALTH AND HUMAN SERVICES

Administration for Community Living

Agency Information Collection Activities: Proposed Collection; Public Comment Request; Protection and Advocacy for Traumatic Brain Injury (PATBI) Program Performance Report

AGENCY: Administration for Community Living, HHS.

ACTION: Notice.

SUMMARY: The Administration on Intellectual and Developmental Disabilities (AIDD), Administration for Community Living (ACL) is announcing an opportunity for the public to comment on the proposed collection of information by the agency. Under the Paperwork Reduction Act of 1995 (PRA), Federal agencies are required to publish a notice in the Federal Register concerning each proposed collection of information, including each proposed extension or reinstatement of an existing collection of information, and to allow 60 days for public comment on the proposed action. This notice collects comments on the information collection requirements relating to an existing collection previously in use without an OMB Control Number: Protection and Advocacy for Traumatic Brain Injury (PATBI) Program Performance Report.

DATES: Submit written comments on the collection of information by March 20, 2017.

ADDRESSES: Submit written comments on the collection of information by email to wilma.roberts@acl.hhs.gov.

FOR FURTHER INFORMATION CONTACT: Wilma Roberts, Administration for Community Living, Administration on Intellectual and Developmental Disabilities, Office of Program Support, 330 C Street SW., Washington, DC 20201, 202-795-7449.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document. The Children's Health Act of 2000, 42 U.S.C. Section 300d-53(h), requires the Protection and Advocacy (P&A) System in each State to annually prepare and submit to the Secretary a report that includes documentation of the progress they have made in serving individuals with traumatic brain injury. AIDD will review the program performance report (PPR) for compliance and for program outcomes. AIDD will aggregate the information in the PPRs into a national profile of programmatic activities and accomplishments. Information from these reports is shared with the public through postings to the ACL.gov Web site. The information will also allow AIDD to track accomplishments against performance goals and determine areas where technical assistance is needed to comply with Federal requirements or improve performance.

The proposed Protection and or Traumatic Brain Injury (PATBI) Program Performance Report (PPR) form can be found on the AIDD Web site at: https://acl.gov/Programs/AIDD/Program_Resource_Search/Results_PA.aspx.

Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

ACL estimates the burden hours for this collection of information as follows:

Annual Burden Estimates
Instrument | Number of respondents | Number of responses per respondent | Average burden hours per response | Total burden hours
PATBI PPR | 57 | 1 | 16 | 912

Dated: January 10, 2017.
Edwin Walker,
Acting Administrator and Assistant Secretary for Aging.

[FR Doc. 2017-00879 Filed 1-13-17; 8:45 am]

BILLING CODE 4154-01-P